DEPARTMENT OF ENERGY

Federal Energy Regulatory Commission

[Project No. 8377-030]

Isabella Partners; Notice of Application for Capacity Amendment Accepted for Filing, Soliciting Comments, Motions To Intervene, Protests, Recommendations, Terms and Conditions, and Fishway Prescriptions

Take notice that the following hydroelectric application has been filed with the Commission and is available for public inspection:

a. Application Type: Capacity Amendment.

b. Project No: 8377-030.

c. Date Filed: February 20, 2024.

d. Applicant: Isabella Partners.

e. Name of Project: Isabella Hydroelectric Project.

f. Location: The project is located on the Kern River in Kern County, California at the U.S. Army Corps of Engineers (Corps)' Isabella Dam on lands administered by the Corps of Engineers.

g. Filed Pursuant to: Federal Power Act, 16 U.S.C. 791a-825r.

h. Applicant Contact: Ben Singer, P.O. Box 1136, Bozeman, MT 59771, ben@hydrodynamics.biz, and 406-763-4063.

i. FERC Contact: Zeena Aljibury, (202) 502-6065, zeena.aljibury@ferc.gov.

j. Cooperating agencies: With this notice, the Commission is inviting Federal, State, local, and Tribal agencies with jurisdiction and/or special expertise with respect to environmental issues affected by the proposal, that wish to cooperate in the preparation of any environmental document, if applicable, to follow the instructions for filing such requests described in item l below. Cooperating agencies should note the Commission's policy that agencies that cooperate in the preparation of any environmental document cannot also intervene. See 94 FERC ¶ 61,076 (2001).

k. Water Quality Certification: The applicant submitted an application for water quality certification (WQC) on February 13, 2023 to the California State Water Resources Control Board (California SWRCB). California SWRCB issued a WQC on February 12, 2024, which is included in the amendment application.

l. Deadline for filing comments, motions to intervene, and protests: July 18, 2024.

The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, MD 20852. The first page of any filing should include the docket number P-8377-030. Comments emailed to Commission staff are not considered part of the Commission record.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

m. Description of Request: Isabella Partners requests approval for a capacity amendment to the license for the Isabella Hydroelectric Project. Isabella Partners proposes to construct and operate a new 5-megawatt (MW) generating unit which would be located in a new 40-foot-by-45-foot concrete structure adjacent to the existing powerhouse. This would result in an increase of the installed capacity from 12.8 MW to 17.8 MW. Currently, flows greater than the 100 cubic feet per second (cfs) capacity of Unit 3 and less than the 500 cfs minimum operating range of Units 1 and 2 are discharged through the existing bypass channel. The proposed 5-MW addition (Unit 4) would allow Isabella Partners to generate power at flows between 100 and 500 cfs. Water released from the proposed unit would be discharged through the existing tailrace. Isabella Partners would continue to operate the Project under the 1993 Army Corps of Engineers Memorandum of Agreement and there would be no changes in water releases to the Kern River as a result of the proposed action.

n. Locations of the Application: This filing may be viewed on the Commission's website at http://www.ferc.gov using the “eLibrary” link. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. Agencies may obtain copies of the application directly from the applicant.

o. Individuals desiring to be included on the Commission's mailing list should so indicate by writing to the Secretary of the Commission.

p. Comments, Protests, or Motions to Intervene: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

q. Filing and Service of Documents: Any filing must (1) bear in all capital letters the title “COMMENTS”, “PROTEST”, or “MOTION TO INTERVENE”, “TERMS AND CONDITIONS”, OR “FISHWAY PRESCRIPTIONS”, as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis and otherwise comply with the requirements of 18 CFR 4.34(b). All comments, motions to intervene, or protests should relate to project works which are the subject of the amendment. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

r. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: June 18, 2024.
Debbie-Anne A. Reese,
Acting Secretary.

[FR Doc. 2024-13930 Filed 6-25-24; 8:45 am]

BILLING CODE 6717-01-P